NATIONAL ARCHIVES AND RECORDS ADMINISTRATION

[NARA-2025-009]

Freedom of Information Act (FOIA) Advisory Committee Meeting; Correction

AGENCY: Office of Government Information Services (OGIS), National Archives and Records Administration (NARA).

ACTION: Notice of meeting; correction.

SUMMARY: We published a notice in the Federal Register on November 6, 2024, concerning a notice of our December 5, 2024, Freedom of Information Act (FOIA) Advisory Committee. The notice contains an incorrect link required to view the meeting on the National Archives YouTube channel.

DATES: The document published at 89 FR 88066-88067 on November 6, 2024. The meeting date remains the same.

FOR FURTHER INFORMATION CONTACT: Kirsten Mitchell, Designated Federal Officer for this committee, by email at foia-advisory-committee@nara.gov, or by telephone at 202.741.5770.

SUPPLEMENTARY INFORMATION:

Correction

In the Federal Register of November 6, 2024, at 89 FR 88067, FR Doc. 2024-25756, on page 88067, in the first column, under the heading SUPPLEMENTARY INFORMATION, in the third paragraph, following the phrase “National Archives YouTube channel”, the link is corrected to https://www.youtube.com/live/NkKzcHhxEpU.

Merrily Harris,
Committee Management Officer.

[FR Doc. 2024-26662 Filed 11-14-24; 8:45 am]

BILLING CODE 7515-01-P